DEPARTMENT OF THE INTERIOR

Bureau of Land Management

43 CFR Part 1820

[BLM_CO_FRN_MO454500169192]

RIN 1004-AE96

Application Procedures, Execution and Filing of Forms: Correction of State Office and Public Room Addresses for Filings and Recordings, Including Proper Offices for Recording of Mining Claims; Colorado

AGENCY: Bureau of Land Management, Interior.

ACTION: Final rule.

SUMMARY: This final rule amends Bureau of Land Management (BLM) regulations pertaining to execution and filing of forms in order to reflect the new addresses for the BLM-Colorado State Office and its Public Room. All filings and other documents relating to public lands in Colorado must be filed at the BLM Colorado State Office Public Room, Denver Federal Center Building 1A, Lakewood, CO 80225.

DATES: This rule is effective on May 31, 2023.

ADDRESSES: You may send inquiries or suggestions to the Director for Communications, BLM-Colorado State Office, P.O. Box 151029, Lakewood, CO 80215.

FOR FURTHER INFORMATION CONTACT: Jennifer Bednar, telephone: 303-358-7726, email: jbednar@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Background

II. Procedural Matters

I. Background

This final rule reflects the administrative action of changing the street addresses of the Colorado State Office, including the Public Room, of the BLM. This rule changes the postal and street address for the personal filing of documents relating to public lands in Colorado but makes no other changes in filing requirements. The BLM has determined that the rule has no substantive impact on the public, imposes no costs, and merely updates a list of addresses included in the Code of Federal Regulations for the convenience of the public. The Department of the Interior, therefore, for good cause finds that under 5 U.S.C. 553(b)(B), notice and public comment procedures are unnecessary.

II. Procedural Matters

Regulatory Planning and Review (Executive Order 12866)

This final rule is an administrative action to change the address for one BLM State Office. This rule was not subject to review by the Office of Management and Budget under Executive Order 12866. The rule imposes no costs, and merely updates a list of addresses included in the Code of Federal Regulations for the convenience of the public.

National Environmental Policy Act

The BLM has found that the final rule is of a procedural nature and thus is categorically excluded from further documentation under the National Environmental Policy Act of 1969 in accordance with 43 CFR 46.210(i). In addition, the final rule does not present any of the 12 extraordinary circumstances listed at 43 CFR 46.215.

Regulatory Flexibility Act

Congress enacted the Regulatory Flexibility Act of 1980 (5 U.S.C. 601, et seq.) to ensure that Government regulations do not unnecessarily or disproportionately burden small entities. This final rule is a purely administrative regulatory action having no effects upon the public or the environment, and it has been determined that the rule will not have a significant effect on the economy or small entities.

Congressional Review Act

This final rule is a purely administrative regulatory action having no effects upon the public or the economy. This is not a major rule under the Congressional Review Act (5 U.S.C. 804(2)). The rule will not have an annual effect on the economy of $100 million or more. The rule will not cause a major increase in costs of prices for consumers, individual industries, Federal, State, or local government agencies, or geographic regions. The rule will not have significant adverse effects on competition, employment, investment, productivity, innovation, or the ability of United States-based enterprises to complete with foreign-based enterprises.

Unfunded Mandate Reform Act

The BLM has determined that this final rule is not significant under the Unfunded Mandates Reform Act of 1995 because the rule will not result in the expenditure by State, local, and Tribal governments, in the aggregate, or by the private sector, of $100 million or more in any one year. Further, the administrative final rule will not significantly or uniquely affect small governments. It does not require action by any non-Federal government entity. Therefore, the information required by the Unfunded Mandates Reform Act (2 U.S.C. 1531 et. seq.), is not required.

Executive Order 12630, Government Action and Interference With Constitutionally Protected Property Rights (Takings)

As required by Executive Order 12630, the Department of the Interior has determined that the rule will not cause a taking of private property. No private property rights will be affected by a rule that merely reports an address change for the Colorado State Office and its Public Room. The Department therefore certifies that this final rule does not represent a governmental action capable of interference with constitutionally protected property rights.

Executive Order 13132, Federalism

In accordance with Executive Order 13132, the BLM finds that the rule does not have sufficient federalism implications to warrant the preparation of a federalism summary impact statement.

The final rule does not have substantial direct effects on the States, on the relationship between the national governments and the States, or the distribution of power and the responsibilities among the various levels of government. This administrative final rule does not preempt State law.

Executive Order 12988, Civil Justice Reform

This final rule is a purely administrative regulatory action having no effects upon the public and will not unduly burden the judicial system. This final rule meets the requirements of Sections 3(a) and 3(b)(2) of the Executive Order.

Executive Order 13175, Consultation and Coordination With Indian Tribal Governments

In accordance with the Executive Order 13175, the BLM finds that the rule does not include policies that have Tribal implications. This final rule is purely an administrative action having no effects upon the public or the environment, imposing no costs, and merely updates the Colorado State Office and its Public Room addresses included in the Code of Federal Regulations.

Executive Order 13211, Actions Concerning Regulations That Significantly Affect Energy Supply, Distribution, or Use

In accordance with Executive Order 13211, the BLM has determined that the final rule will not have substantial direct effects on the energy supply, distribution, or use, including a shortfall in supply or price increase. This final rule is a purely administrative action and has no implications under Executive Order 13211.

Paperwork Reduction Act

The Paperwork Reduction Act does not apply because the rule does not contain any information collection requirements that require the approval of the Office of Management and Budget under 44 U.S.C. 3501, et seq.

List of Subjects in 43 CFR Part 1820

Administrative practice and procedure, Archives and records, Public lands.

For the reasons discussed in the preamble, the Bureau of Land Management amends 43 CFR part 1820 as follows:

PART 1820—APPLICATION PROCEDURES

1. The authority citation for part 1820 continues to read as follows:

Authority: 5 U.S.C. 552, 43 U.S.C. 2, 1201, 1733, and 1740.

Subpart 1821—General Information

2. Amend § 1821.10 in paragraph (a) by revising the entry for “Colorado State Office” to read as follows:

§ 1821.10 Where are BLM offices located?

(a) * * *

State Offices and Areas of Jurisdiction

* * * * *

Colorado State Office, Denver Federal Center, Building 40, Lakewood, CO 80215; Public Room, Denver Federal Center, Building 1A, Lakewood, CO 80225; P.O. Box 151029, Lakewood, CO 80215.

* * * * *

Laura Daniel-Davis,
Principal Deputy Assistant Secretary, Land and Minerals Management.

[FR Doc. 2023-11553 Filed 5-30-23; 8:45 am]

BILLING CODE 4331-16-P